DEPARTMENT OF ENERGY

Federal Energy Regulatory Commission

Combined Notice of Filings

Take notice that the Commission has received the following Natural Gas Pipeline Rate and Refund Report filings:

Docket Numbers: RP20-1025-000.

Applicants: National Fuel Gas Supply Corporation.

Description: Pre-Arranged/Pre-Agreed (Settlement Agreement) Filing of National Fuel Gas Supply Corporation under RP20-1025.

Filed Date: 7/16/20.

Accession Number: 20200716-5035.

Comments Due: 5 p.m. ET 8/3/20.

Docket Numbers: RP20-1026-000.

Applicants: Northern Natural Gas Company.

Description: Northern Natural Gas Company submits tariff filing per 154.204: 20200715 Minimum Level of MDQ to be effective 8/16/2020 under RP20-1026.

Filed Date: 7/16/20.

Accession Number: 20200716-5090.

Comments Due: 5 p.m. ET 8/3/20.

Docket Numbers: RP20-1029-000.

Applicants: Transcontinental Gas Pipe Line Company.

Description: Compliance filing Rate Schedules GSS and LSS DETI Flow Thru Refund Report to be effective N/A.

Filed Date: 7/21/20.

Accession Number: 20200721-5022.

Comments Due: 5 p.m. ET 8/3/20.

Docket Numbers: RP20-1030-000.

Applicants: Florida Gas Transmission Company, LLC.

Description: § 4(d) Rate Filing: New Service Agreement Entergy to be effective 8/1/2020.

Filed Date: 7/21/20.

Accession Number: 20200721-5049.

Comments Due: 5 p.m. ET 8/3/20.

Docket Numbers: RP20-1031-000.

Applicants: Florida Gas Transmission Company, LLC.

Description: § 4(d) Rate Filing: Update Non-Conforming List (Entergy) on 7-21-20 to be effective 8/1/2020.

Filed Date: 7/21/20.

Accession Number: 20200721-5051.

Comments Due: 5 p.m. ET 8/3/20.

Docket Numbers: RP20-1032-000.

Applicants: Eastern Shore Natural Gas Company.

Description: § 4(d) Rate Filing: Supply Lateral Transportation Filing to be effective 8/21/2020.

Filed Date: 7/21/20.

Accession Number: 20200721-5128.

Comments Due: 5 p.m. ET 8/3/20.

The filings are accessible in the Commission's eLibrary system (https://elibrary.ferc.gov/idmws/search/fercgensearch.asp) by querying the docket number.

Any person desiring to intervene or protest in any of the above proceedings must file in accordance with Rules 211 and 214 of the Commission's Regulations (18 CFR 385.211 and 385.214) on or before 5:00 p.m. Eastern time on the specified comment date. Protests may be considered, but intervention is necessary to become a party to the proceeding.

eFiling is encouraged. More detailed information relating to filing requirements, interventions, protests, service, and qualifying facilities filings can be found at: http://www.ferc.gov/docs-filing/efiling/filing-req.pdf. For other information, call (866) 208-3676 (toll free). For TTY, call (202) 502-8659.

Dated: July 22, 2020.
Nathaniel J. Davis, Sr.,
Deputy Secretary.

[FR Doc. 2020-16308 Filed 7-27-20; 8:45 am]

BILLING CODE 6717-01-P